NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before February 8, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Agency-wide (N1-16-10-4, 1 item, 1 temporary item). Routine surveillance recordings, which were previously approved for disposal.

2. Department of Agriculture, Center for Nutrition Policy and Promotion (N1-462-09-10, 1 item, 1 temporary item). Master files of an electronic information system that is used to provide the public with information concerning such matters as scientific nutritional research, dietary guidelines, and physical activity assessments.

3. Department of Agriculture, Food and Nutrition Service (N1-462-09-12, 1 item, 1 temporary item). Master files of an electronic information system used to identify and monitor fraudulent activities by retailers involved in the Supplemental Nutrition and Assistance Program.

4. Department of Agriculture, Food and Nutrition Service (N1-462-09-14, 1 item, 1 temporary item). Master files of an electronic information system containing data concerning abusive vendors involved in the Women, Infants and Children Program. Data is used as a management tool at the state level and used by the agency to prepare reports to Congress and other groups.

5. Department of Health and Human Services, Office of the Secretary (N1-468-09-4, 1 item, 1 temporary item). Master files of an electronic information system used for Office of General Counsel work flow and time tracking.

6. Department of Health and Human Services, Administration on Aging (N1-439-09-3, 5 items, 5 temporary items). Records of the Office of Preparedness and Response, including input to departmental reports, working papers, and records relating to emergency planning.

7. Department of Health and Human Services, Administration on Children and Families (N1-292-09-1, 2 items, 2 temporary items). Master files of electronic information systems used for grant program announcements and for the tracking and evaluation of grant applications.

8. Department of the Interior, Office of the Secretary (N1-48-08-1, 17 items, 17 temporary items). Records of the Chief Information Officer, including such records as capital planning and investment control files, reports and presentations, legal files, agreements, and Web site management records.

9. Department of the Interior, Office of the Secretary (N1-48-09-5, 2 items, 2 temporary items). Master files of an electronic information system used to maintain information on incidents and investigations as well as data concerning agency law enforcement and security personnel.

10. Department of Justice, Civil Division (N1-131-08-1, 7 items, 3 temporary items). Claims, allowances, and individual trusts relating to the World War I alien property program. Proposed for permanent retention are substantive records relating to the program, such as subject files, procedures, and executive orders and proclamations.

11. Department of Justice, Executive Office for U.S. Attorneys (N1-60-09-40, 5 items, 5 temporary items). Master files, inputs, and outputs associated with an electronic information system used for litigation support. This system provides workflow management for responding to litigation and discovery requests.

12. Department of the Navy, Agency-wide (N1-NU-10-1, 1 item, 1 temporary item). Case files relating to the confinement of court-martial prisoners.

13. Department of Transportation, Federal Aviation Administration (N1-237-09-6, 6 items, 6 temporary items). Master files and inputs associated with an electronic information system used to gather data and prepare reports concerning various aspects of contracts involving disadvantaged business enterprises.

14. Department of Transportation, Federal Aviation Administration (N1-237-09-12, 1 item, 1 temporary item). Master files of an electronic information system used for monitoring contracting activities.

15. Department of Transportation, Federal Aviation Administration (N1-237-09-13, 1 item, 1 temporary item). Master files of an electronic information system used for monitoring the handling of customer service requests.

16. Department of Transportation, Federal Aviation Administration (N1-237-09-14, 1 item, 1 temporary item). Records of an electronic information system that serves as a temporary repository for information relating to the certification of airmen.

17. Department of Transportation, Federal Aviation Administration (N1-237-09-15, 1 item, 1 temporary item). Records of an electronic information system used to provide front end presentation logic on the agency web site relating to aviation safety inspections.

18. Department of Transportation, Federal Aviation Administration (N1-237-09-16, 5 items, 5 temporary items). Master files and reports relating to the printing and distribution of navigation products.

19. Department of Transportation, Federal Aviation Administration (N1-237-09-17, 2 items, 2 temporary items). Master files and other records associated with an electronic information system used for data concerning material costs entailed in printing nautical and aeronautical charts.

20. Department of Transportation, Federal Aviation Administration (N1-237-09-18, 1 item, 1 temporary item). Electronic records relating to flight standards training that is used by employees to access their records and obtain information concerning courses.

21. Department of Transportation, Federal Aviation Administration (N1-237-09-19, 1 item, 1 temporary item). Electronic records associated with a web-based tool used to provide access to reference copies of flight safety and flight standards information.

22. Department of Transportation, Federal Aviation Administration (N1-237-09-20, 1 item, 1 temporary item). Electronic data related to managing and monitoring the certification of airlines.

23. Department of Transportation, Federal Aviation Administration (N1-237-09-21, 4 items, 4 temporary items). Electronic data relating to surveillance and other activities of aviation safety inspectors.

24. Department of Transportation, Federal Aviation Administration (N1-237-09-22, 1 item, 1 temporary item). Electronic data relating to incidents involving violations of flight safety rules.

25. Department of Transportation, Federal Aviation Administration (N1-237-09-24, 3 items, 3 temporary items). Inputs, outputs, and master files associated with an obsolete electronic information system used for data concerning flying air tours over National Parks in the West.

26. Department of Transportation, Federal Aviation Administration (N1-237-09-25, 1 item, 1 temporary item). Records of an obsolete database used to track personal property and equipment.

Dated: December 30, 2009.
James J. Hastings,
Director, Access Programs.

[FR Doc. 2010-33 Filed 1-6-10; 8:45 am]

BILLING CODE 7515-01-P